DEPARTMENT OF DEFENSE

Defense Acquisition Regulations System

48 CFR Parts 203 and 252

Defense Federal Acquisition Regulation Supplement; DoD Office of the Inspector General Address (DFARS Case 2010-D015)

AGENCY: Defense Acquisition Regulations System; Department of Defense (DoD).

ACTION: Final rule.

SUMMARY: DoD is issuing a final rule amending the Defense Federal Acquisition Regulation Supplement (DFARS) to provide the address for the agency Office of the Inspector General as referenced in FAR clause 52.203-13, Contractor Code of Business Ethics and Conduct.

DATES: Effective Date: September 27, 2010.

FOR FURTHER INFORMATION CONTACT: Ms. Amy Williams, Defense Acquisition Regulations System, OUSD(AT&L)DPAP(DARS), 3060 Defense Pentagon, Room 3B855, Washington, DC 20301-3060. Telephone 703-602-0328; facsimile 703-602-0350. Please cite DFARS Case 2010-D015.

SUPPLEMENTARY INFORMATION:

A. Background

The Federal Acquisition Regulation (FAR) Case 2007-006, “Contractor Business Ethics Compliance Program and Disclosure Requirements,” was published as a final rule in the Federal Register on November 12, 2008, with an effective date of December 12, 2008. The contract clause entitled “Contractor Code of Business Ethics and Conduct” requires the contractor to disclose to the agency office of the Inspector General (with a copy to the contracting officer), when the contractor has credible evidence that a principal, employee, agent, or subcontractor of the contractor has committed a violation of criminal law involving fraud, conflict of interest, bribery, or gratuity violations found in title 18 U.S.C. or a violation of the civil False Claims Act. This final rule provides the address for the DoD Office of the Inspector General.

This rule was not subject to Office of Management and Budget review under Executive Order 12866, dated September 30, 1993. This is not a major rule under 5 U.S.C. 804.

B. Regulatory Flexibility Act

The Regulatory Flexibility Act does not apply to this rule. This final rule does not constitute a significant DFARS revision within the meaning of 41 U.S.C. 418b and FAR 1.501, and publication for public comment is not required. However, DoD will consider comments from small entities concerning the affected DFARS parts in accordance with 5 U.S.C. 610. Interested parties must submit such comments separately and should cite 5 U.S.C. 601, et seq., in correspondence.

C. Paperwork Reduction Act

This rule does not impose any new information collection requirements that require the approval of the Office of Management and Budget under 44 U.S.C. 3501, et seq.

List of Subjects in 48 CFR Parts 203 and 252

Government procurement.

Ynette R. Shelkin,
Editor, Defense Acquisition Regulations System.

Therefore, 48 CFR parts 203 and 252 are amended as follows:

1. The authority citation for 48 CFR parts 203 and 252 continues to read as follows:

Authority: 41 U.S.C. 421 and 48 CFR chapter 1.

PART 203—IMPROPER BUSINESS PRACTICES AND PERSONAL CONFLICTS OF INTEREST

2. Section 203.1004 is amended by adding paragraph (a) to read as follows:

203.1004 Contract clauses.

(a) Use the clause at 252.203-7003 in solicitations and contracts that include the FAR clause 52.203-13, Contractor Code of Business Ethics and Conduct.

* * * * *

PART 252—SOLICITATION PROVISIONS AND CONTRACT CLAUSES

3. Section 252.203-7003 is added to read as follows:

252.203-7003 Agency Office of the Inspector General.

As prescribed in 203.1004(a), use the following clause:

AGENCY OFFICE OF THE INSPECTOR GENERAL (SEP 2010)

The agency office of the Inspector General referenced in paragraphs (c) and (d) of FAR clause 52.203-13, Contractor Code of Business Ethics and Conduct, is the DoD Office of the Inspector General at the following address:

DoD Office of the Inspector General, Investigative Policy and Oversight, 400 Army Navy Drive, Suite 1037, Arlington, VA 22202-4704, Toll Free Telephone: 866-429-8011.

(End of clause)

[FR Doc. 2010-23653 Filed 9-24-10; 8:45 am]

BILLING CODE 5001-08-P